DEPARTMENT OF LABOR

Employment and Training Administration

Agency Information Collection Activities; Comment Request

ACTION: Notice.

SUMMARY: The Department of Labor's (DOL) Employment and Training Administration (ETA) is soliciting comments concerning a proposed extension for the authority to conduct the information collection request (ICR) titled, “American Apprenticeship Initiative (AAI) Grants.” This comment request is part of continuing Departmental efforts to reduce paperwork and respondent burden in accordance with the Paperwork Reduction Act of 1995 (PRA).

DATES: Consideration will be given to all written comments received by June 15, 2020.

ADDRESSES: A copy of this ICR with applicable supporting documentation, including a description of the likely respondents, proposed frequency of response, and estimated total burden, may be obtained free by contacting Gabrielle Aponte-Henkel by telephone at 202-693-2683 (this is not a toll-free number), TTY 1-877-889-5627 (this is not a toll-free number), or by email at Apprenticeship.Grants-ETA@dol.gov.

Submit written comments or requests for a copy of this ICR by mail or courier to the U.S. Department of Labor, Employment and Training Administration, Office of Apprenticeship, Room C-5321, 200 Constitution Avenue NW, Washington, DC 20210; by email: Apprenticeship.Grants-ETA@dol.gov; or by fax 202-693-3799.

FOR FURTHER INFORMATION CONTACT: Gabrielle Aponte-Henkel by telephone at 202-693-2683 (this is not a toll-free number), TTY 1-877-889-5627 (this is not a toll-free number), or by email at Apprenticeship.Grants-ETA@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data is provided in the desired format, reporting burden (time and financial resources) is minimized, collection instruments are clearly understood, and the impact of collection requirements can be properly assessed.

ETA is soliciting comments concerning the collection of data required by the AAI grants. These grants are designed to support grantees in providing education, training, and job placement assistance through Registered Apprenticeship programs in occupations and/or industries that have high-growth potential for which employers are using H-1B visas to hire foreign workers. ETA requires grantees to submit Quarterly Performance Reports (QPR) on (1) enrolled apprentices in Registered Apprenticeship programs, and (2) pre-apprenticeship program participants. The QPR also includes a narrative summary of the partnership progress and the implementation measures used by the grantee, as outlined in each grantee's project work plan. These QPRs help ETA gauge the impact of the AAI grants, determine best practices from programs implemented by AAI grantees, and better understand technical assistance needs of grantees and the targeted areas/populations served. The QPRs also provide data to inform future evaluations. Section 414(c) of the American Competitiveness and Workforce Improvement Act of 1998 (ACWIA), as amended (originally codified at 29 U.S.C. 2916a and transferred to 29 U.S.C. 3224a) authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0528.

Submitted comments will be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

Agency: DOL-ETA.

Type of Review: Extension Without Changes.

Title of Collection: American Apprenticeship Initiative Grants.

Form: Quarterly Performance Report and Quarterly Narrative Report.

OMB Control Number: 1205-0528.

Affected Public: Individuals/households, state/local/tribal governments, Federal government, private sector (businesses or other for-profits, and, not-for-profit institutions).

Estimated Number of Respondents: 12,046.

Frequency: Varies.

Total Estimated Annual Responses: 12,184.

Estimated Average Time per Response: Varies.

Estimated Total Annual Burden Hours: 12,680 hours.

Total Estimated Annual Other Cost Burden: $0.

(Authority: 44 U.S.C. 3506(c)(2)(A))

John Pallasch,
Assistant Secretary for Employment and Training.

[FR Doc. 2020-07937 Filed 4-14-20; 8:45 am]

BILLING CODE 4510-FR-P